DEPARTMENT OF HOMELAND SECURITY

Coast Guard

[Docket No. USCG-2009-0973]

Random Drug Testing Rate for Covered Crewmembers

AGENCY: Coast Guard, DHS.

ACTION: Notice of minimum random drug testing rate.

SUMMARY: The Coast Guard has set the calendar year 2012 minimum random drug testing rate at 50 percent of covered crewmembers.

DATES: The minimum random drug testing rate is effective January 1, 2012 through December 31, 2012. Marine employers must submit their 2011 Management Information System (MIS) reports no later than March 15, 2012.

ADDRESSES: Annual MIS reports may be submitted to Commandant (CG-545), U.S. Coast Guard Headquarters, 2100 Second Street SW., STOP 7561, Washington, DC 20593-7581 or by electronic submission to the following Internet address: http://homeport.uscg.mil/Drugtestreports.

FOR FURTHER INFORMATION CONTACT: For questions about this notice, please contact Mr. Robert C. Schoening, Drug and Alcohol Program Manager, Office of Investigations and Casualty Analysis (CG-545), U.S. Coast Guard Headquarters, telephone (202) 372-1033. If you have questions on viewing or submitting material to the docket, call Renee V. Wright, Program Manager, Docket Operations, telephone (202) 366-9826.

SUPPLEMENTARY INFORMATION: The Coast Guard requires marine employers to establish random drug testing programs for covered crewmembers on inspected and uninspected vessels in accordance with 46 CFR 16.230. Every marine employer is required by 46 CFR 16.500 to collect and maintain a record of drug testing program data for each calendar year, and submit this data by 15 March of the following year to the Coast Guard in an annual MIS report.

Each year, the Coast Guard will publish a notice reporting the results of random drug testing for the previous calendar year's MIS data and the minimum annual percentage rate for random drug testing for the next calendar year. The purpose of setting a minimum random drug testing rate is to assist the Coast Guard in analyzing its current approach for deterring and detecting illegal drug abuse in the maritime industry.

The Coast Guard announces that the minimum random drug testing rate for calendar year 2012 is 50 percent. The Coast Guard may lower this rate if, for two consecutive years, the drug test positive rate is less than 1.0 percent, in accordance with 46 CFR part 16.230(f)(2). MIS data for 2010 indicates that the positive rate is less than one percent industry-wide (0.740 percent). This is the first year ever that the positive rate has been below 1% for the marine transportation industry. In accordance with § 46 CFR part 16.230(f), the positive rate must be lower than 1% for two consecutive years before the random rate is eligible to be reduced to 25%. For 2012, the minimum random drug testing rate will continue at 50 percent of covered employees for the period of January 1, 2012 through December 31, 2012 in accordance with 46 CFR 16.230(e).

Dated: December 14, 2011.
Paul F. Thomas,
CAPT, USCG, Acting Director of Prevention Policy (CG-54).

[FR Doc. 2011-32627 Filed 12-20-11; 8:45 am]

BILLING CODE 9110-04-P